OVERSEAS PRIVATE INVESTMENT CORPORATION

Sunshine Act Meeting; Board of Directors Meeting

TIME AND DATE: Thursday, September 19, 2013, 2 p.m. (OPEN Portion) 2:15 p.m. (CLOSED Portion).

PLACE: Offices of the Corporation, Twelfth Floor Board Room, 1100 New York Avenue NW., Washington, DC.

STATUS: Meeting OPEN to the Public from 2 p.m. to 2:15 p.m. Closed portion will commence at 2:15 p.m. (approx.).

MATTERS TO BE CONSIDERED: 1. President's Report.

2. Tribute—Ambassador Demetrios J. Marantis.

3. Tribute—Robert D. Hormats.

4. Confirmation—Michael S. Whalen as Vice President, Structured Finance.

5. Minutes of the Open Session of the June 13, 2013 Board of Directors Meeting.

FURTHER MATTERS TO BE CONSIDERED: (Closed to the Public 2:15 p.m.):

1. Finance Project—Kenya and Tanzania.

2. Finance Project—Pakistan.

3. Finance Project—Chile.

4. Finance Project—Brazil.

5. Finance Project—Turkey.

6. Finance Project—Chile.

7. Minutes of the Closed Session of the June 13, 2013 Board of Directors Meeting.

8. Minutes of the August 14, 2013 Special Meeting of the Board of Directors.

9. Minutes of the August 19, 2013 Special Meeting of the Board of Directors.

10. Reports.

11. Pending Major Projects.

Written summaries of the projects to be presented will be posted on OPIC's Web site on or about August 29, 2013.

CONTACT PERSON FOR INFORMATION: Information on the meeting may be obtained from Connie M. Downs at (202) 336-8438.

Dated: August 29, 2013.
Connie M. Downs,
Corporate Secretary, Overseas Private Investment Corporation.

[FR Doc. 2013-21450 Filed 8-29-13; 4:15 pm]

BILLING CODE 3210-01-P